DEPARTMENT OF DEFENSE

Department of the Army, Corps of Engineers

Intent To Prepare a Draft Supplemental Environmental Impact Statement (Supplement 2) for the Mississippi River Ship Channel, Gulf to Baton Rouge, Louisiana, General Reevaluation Study

AGENCY: Department of the Army, U.S. Army Corps of Engineers, DoD.

ACTION: Notice of Intent.

SUMMARY: The U.S. Army Corps of Engineers (Corps), New Orleans District intends to prepare a Draft Supplemental Environmental Impact Statement (SEIS), to be integrated with a General Reevaluation Report (GRR), for the Mississippi River Ship Channel, Gulf to Baton Rouge, Louisiana Project. The GRR and SEIS will investigate deepening and maintaining the Mississippi River Ship Channel from 45 feet deep to as much as 50 feet deep.

DATES: A public scoping meeting is scheduled for Tuesday, May 26, 2015 in Belle Chasse, LA. An open house will be held at 6:00 p.m. followed by the scoping meeting at 6:30 p.m. A second public scoping meeting will be held Thursday morning, May 28, 2015 in New Orleans, LA. An open house will be held at 9 a.m. followed by the scoping meeting at 9:30 a.m. A third public scoping meeting will be held Thursday evening, May 28, 2015 in Baton Rouge, LA. An open house will be held at 6:00 p.m. followed by the scoping meeting at 6:30 p.m.

ADDRESSES: The scoping meeting and open house on Tuesday, May 26 will be held at the Belle Chasse Branch Library, 8442 Highway 23, Belle Chasse, LA 70037. The scoping meeting and open house in the morning of Thursday, May 28 will be held at Corps of Engineers District Office in the District Assembly Room, 7400 Leake Ave, New Orleans, LA 70118. The scoping meeting and open house in the evening of Thursday, May 28 will be held at Louisiana State Police Training Academy, 7901 Independence Blvd., Baton Rouge, LA 70806.

FOR FURTHER INFORMATION CONTACT: Questions about the public scoping meeting, the GRR and SEIS should be addressed to: Mr. Richard Boe or Mr. Steve Roberts, U.S. Army Corps of Engineers, Environmental Compliance Branch, P.O. Box 60267, New Orleans, LA 70160-0267, by email to richard.e.boe@usace.army.mil or steve.w.roberts@usace.army.mil, or by telephone at (504) 862-1505 or (504) 862-2517.

SUPPLEMENTARY INFORMATION:

1. Project Background and Authorization.

The 1981 Feasibility Study entitled “Deep-Draft Access to the Ports of New Orleans and Baton Rouge, Louisiana” (1981 Feasibility Study) was authorized by Section 2 of the Rivers and Harbors Act of 1945, (Pub. L. 79-14), which combined several existing deep-draft projects on the Mississippi River and modified them to provide new navigation channel dimensions. The 1981 Feasibility Study, which included an Environmental Impact Statement (EIS), recommended deepening the Mississippi River's navigation channel to a 55-foot depth from Baton Rouge to the Gulf of Mexico. A Chief of Engineers Report was completed in April 1983, and a Record of Decision was signed on December 23, 1986. The Mississippi River Ship Channel, Gulf to Baton Rouge, Louisiana project was authorized for construction by Section 101 of the 1985 Supplemental Appropriations Act (Pub. L. 99-88).

The authorized plan provides for a navigation channel with a 55-foot depth over a 750-foot bottom width from the Gulf of Mexico to Baton Rouge, Louisiana, and a turning basin at the head of the deepened channel in Baton Rouge. Authorization also included deepening the existing 35 feet deep by 1,500 feet wide channel at the New Orleans harbor to 40 feet, providing river training works in South Pass and Pass a Loutre, and creating wetlands and upland habitat with dredged material along Southwest Pass.

Phase I of the Mississippi River Ship Channel, Gulf to Baton Rouge, LA Project consisted of a 45-foot channel from the Gulf of Mexico to river mile 181 near Donaldsonville, Louisiana, and was completed in December 1987. Phase II consisted of the remainder of the 45 foot channel from river mile 181 to Baton Rouge, and was completed in December 1994. Phase III of the Project was identified as the deepening of the entire channel to 55 feet from the Gulf of Mexico to Baton Rouge. The Non-Federal Sponsor, the State of Louisiana, Department of Transportation and Development, has requested that an incremental phase of deepening the entire length of the channel to 50 feet be considered. A final phase of deepening the channel to 55 feet may be considered in the future. The Water Resources Reform and Development Act of 2014 amended the Water Resources and Development Act of 1986, to increase the Federal threshold for full Federal channel maintenance responsibilities from 45 feet to 50 feet deep.

The General Reevaluation Report will identify the depth that creates the greatest net benefits up to a 50 foot channel in order to proceed to implementation and to phase the remaining work accordingly. A report released by the Institute of Water Resources (IWR) in June 2012 evaluated the preparedness of U.S. ports to accommodate Post-Panamax size vessels. The Panama Canal is being enlarged to accommodate vessels that draft 50 feet (Post-Panamax vessels) and the enlarged waterway is expected to be completed in 2016. The IWR report found that these vessels currently call at U.S. ports and will dominate the world fleet in the future. Post-Panamax vessels will call in increasing numbers at U.S. ports that can accommodate them. Currently, Mississippi River ports cannot accommodate these vessels. There may be economic justification in expanding port projects to accommodate post-Panamax vessels. The ports located along the lower Mississippi River, being the dominant ports for the export of grains from the U.S., will likely play a key role in meeting these future needs if they are ready with a post-Panamax sized channel.

2. Proposed Action

The purpose of the GRR and SEIS is to identify the depth that creates the greatest net benefits up to a depth of 50 feet in order to implement the deepening the Mississippi River channel from the current depth of 45 feet. An evaluation of population growth trends, trade forecasts and examination of the current port capacities shows that there is very likely economic justification for deepening the channel. This GRR and SEIS will evaluate existing conditions, alternative designs, and provide environmental analysis of anticipated impacts associated with dredging and disposal alternatives. The handling of dredged material generated during construction, the engineering design of dredged material disposal areas, and several other aspects of the Project, that were evaluated in the 1981 Feasibility Report and EIS, will be updated as appropriate.

3. Alternatives

An evaluation of alternatives, including a “no action” alternative will be included. In the SEIS, the “no action” alternative will be the continued operation and maintenance of the 45 feet deep Mississippi River deep-draft navigation channel from Baton Rouge, LA to the Gulf of Mexico. Other alternatives will be determined through scoping, but are anticipated to include an alternative of a 48 feet deep channel and an alternative of a 50 feet deep channel. The plan with the highest net benefits (the difference between transportation cost savings and project costs) will be identified as the recommended plan. Previous evaluations of alternative dredging methods, dredged material handling, and disposal alternatives will also be updated and/or re-evaluated as appropriate.

4. Scoping

The Council on Environmental Quality Regulations for implementing the procedural provisions of the National Environmental Policy Act (NEPA) relating to “Scoping” as set forth in at 40 CFR 1501.7 require an early and open process for determining the scope of the issues to be addressed in an EIS or SEIS and for identifying significant issues related to the proposed action. The public will be involved in the scoping and evaluation process through advertisements, notices, and other means. Federal, state and local agencies, and other interested groups will also be involved. Meetings to address discrete issues or parts or functions of the study may be held. All parties are invited to participate in the scoping process by identifying any additional concerns on issues, studies needed, alternatives, procedures, and other matters related to the scope of the SEIS.

A. The Corps will provide additional notification of the times and locations of the public scoping meetings through newspaper advertisements and other means (see DATES). Following short presentations at the scoping meetings, verbal and written comments on the scope of the SEIS will be accepted. A transcript of verbal comments will be generated to ensure accuracy. Comments will also be accepted via email or postal mail.

B. Issues. Issues that have been identified include, but are not limited to, the level of existing and forecasted vessel traffic, changes in socio-economic conditions since the 1981 Feasibility Report and EIS, evaluation of direct and indirect social and cultural impacts on affected communities and the appropriate and practicable mitigation measures to address those impacts, a re-evaluation of salt water intrusion on municipal drinking water supply, and re-evaluation of reasonable dredging and disposal alternatives and associated impacts. This non-exhaustive list of issues is intended to facilitate public comment on the scope of the SEIS. Concurrent with the NEPA process, the Corps will ensure compliance with all applicable environmental laws, regulations, and executive orders governing issues such as Federally-listed threatened and endangered species, essential fish habitats, health and safety, general environmental concerns, wetlands and other aquatic resources, historic properties, fish and wildlife values, flood hazards, navigation, recreation, water quality, and environmental justice. In selecting a recommended plan, the Corps will also consider issues identified and comments made throughout scoping, public involvement, and interagency coordination. The Corps expects to better define the issues of concern and the methods that will be used to evaluate those issues through the scoping process.

C. Environmental Review and Consultation. The proposed action (recommended plan) will undergo an evaluation for compliance with all applicable guidelines pursuant to Section 404(b) of the Clean Water Act. This review will include a detailed reevaluation of all practicable alternatives as it relates to the handling and disposal of the dredged material. The Corps will develop and provide information on the resources to be impacted and the proposed mitigation measures as it relates to each of the alternatives. Although the Corps does not plan to invite any Federal agencies to be cooperating agencies, input and critical information from the U.S. Environmental Protection Agency, the U.S. Fish and Wildlife Service, and other Federal, state, and local agencies is expected.

5. Public Scoping Meeting Special Accommodations

The public scoping meeting places will be physically accessible to people with disabilities. Requests for sign language interpretation or other auxiliary aids should be directed to Steve Roberts, (504) 862-2517 (voice), or email at steve.w.roberts@usace.army.mil at least 5 business days prior to the meeting dates.

6. Estimated Date of Draft SEIS Availability

It is estimated that the draft SEIS will be available to the public for review and comment in December 2016. At least one public hearing will be held at that time, during which the public will be provided the opportunity to comment on the SEIS before it becomes final.

Dated: May 5, 2015.
Austin T. Appleton,
Lieutenant Colonel, U.S. Army, Acting District Commander.

[FR Doc. 2015-11556 Filed 5-12-15; 8:45 am]

BILLING CODE 3720-58-P